DEPARTMENT OF LABOR

Employment and Training Administration

[TA-W-59,100]

Thomasville Furniture; Plant #5; Conover, NC; Notice of Termination of Investigation

Pursuant to Section 221 of the Trade Act of 1974, as amended, an investigation was initiated on March 29, 2006 in response to a worker petition filed on behalf of workers at Thomasville Furniture, Plant #5, Conover, North Carolina.

The Department issued a negative determination (TA-W-58,770) applicable to the petitioning group of workers on March 10, 2006. No new information or change in circumstances is evident which would result in a reversal of the Department's previous determination. Consequently, further investigation would serve no purpose, and the investigation has been terminated.

Signed at Washington, DC, this 6th day of April 2006.
Richard Church,
Certifying Officer, Division of Trade Adjustment Assistance.

[FR Doc. E6-5772 Filed 4-17-06; 8:45 am]

BILLING CODE 4510-30-P